FEDERAL COMMUNICATIONS COMMISSION

47 CFR Parts 0 and 1

[DA 09-2529]

FCC Announces Change in Filing Location for Paper Documents

AGENCY: Federal Communications Commission.

ACTION: Final rule.

SUMMARY: This document makes nomenclature changes to the Commission's rules and is necessary in order to update addresses pertaining to the filing location for documents received by hand-delivered and/or messenger-delivered paper filings for the Commission's Secretary at the FCC Headquarters. The Commission wants to ensure that all documents are received at the new location by the effective date, and make sure that customers are provided with proper instructions before documents are submitted to the Commission.

DATES: Effective December 28, 2009.

FOR FURTHER INFORMATION CONTACT: Please address any questions concerning this document to Ginger Weasenforth at ginger.weasenforth@fcc.gov (202) 418-0330 or Geraldine Taylor at geraldine.taylor@fcc.gov (202) 418-0305.

SUPPLEMENTARY INFORMATION: The Commission released a document on December 3, 2009, announcing the new filing location for paper documents effective December 28, 2009. The Commission's contractor will begin receiving hand-delivered and/or messenger-delivered paper filings for the Commission's Secretary at the FCC Headquarters building located at 445 12th Street, SW., Room TW-A325, Washington, DC 20554.

• The filing hours will be Monday through Friday, 8 a.m. to 7 p.m.

• This is the ONLY location where hand-delivered or messenger-delivered paper filings for the Commission's Secretary will be accepted. Accordingly, the Commission will close the filing location at 236 Massachusetts Avenue, NE., Suite 110, Washington, DC 20002.

• Originals and copies of each official filing must continue to be held together with rubber bands or fasteners. And as usual, “stamp and return” copies will be provided as long as they accompany each individual filing. ALL FILINGS MUST BE SUBMITTED WITHOUT ENVELOPES. See http://www.fcc.gov/osec/ for further information on filing instructions.

• Documents intended to be received by specific staff members within the Bureaus and Offices must be clearly labeled on the first page of the document or with a cover sheet indicating the destination. As appropriate, originals and copies should be held together with rubber bands or fasteners.

• Documents sent by overnight mail (other than United States Postal Service (USPS) Express Mail) must be addressed to 9300 East Hampton Drive, Capitol Heights, MD 20743.

• All USPS First Class Mail, Express Mail and Priority Mail should continue to be addressed to FCC Headquarters at 445 12th Street, SW., Washington, DC 20554. See http://www.fcc.gov/osec/guidelines.html for further instruction on FCC filing addresses.

As the Commission continues to balance its efforts to be accessible to its customers with the need for heightened security measures, we encourage our customers to take full advantage of the Commission's Electronic Comment Filing System to facilitate the filing of applicable documents.

This amendment is made pursuant to § 0.231(b) of the Commission's rules, 47 CFR 0231. The Federal Communications Commission considers the rule amendments as a matter of agency practice and procedure; therefore, compliance with the notice and comment and effective date provision of the Administrative Procedure Act is not required. Therefore, the Commission will not send a copy of this final rule pursuant to the Congressional Review Act, see 5 U.S.C. 801(a)(1)(A).

List of Subjects in 47 CFR Parts 0 and 1

Reporting and recordkeeping requirements.

Federal Communications Commission.
Marlene H. Dortch,
Secretary.

For the reasons discussed in the preamble, the Federal Communications Commission amends 47 CFR parts 0 and 1 as follows:

PART 0—COMMISSION ORGANIZATION

1. The authority citation for part 0 continues to read as follows:

Authority: Sec. 5, 48 Stat. 1068, as amended; 47 U.S.C. 155, 225, unless otherwise noted.

§ 0.401 [Amended]

2. In 47 CFR 0.401(a) (1) (ii) remove the words “236 Massachusetts Avenue, NE., Washington, DC 20002” and add in their place, the words “445 12th Street, SW., Washington, DC 20554”.

PART 1—PRACTICE AND PROCEDURE

3. The authority citation for part 1 continues to read as follows:

Authority: 15 U.S.C. 79 et seq. 47 U.S.C. 151, 154(j), 160, 201, 225, and 303.

§ 1.4 [Amended]

4. In 47 CFR 1.4(f) remove the words “236 Massachusetts Ave., NE., Washington, DC 20002” and add in their place, the words “445 12th Street, SW., Washington, DC 20554”.

§ 1.773 [Amended]

5. In 47 CFR 1.773(a) (4) and (b) (3) remove the words “236 Massachusetts Ave., NE., Washington, DC 20002” and add in their place, the words “445 12th Street, SW., Washington, DC 20554”.

§ 1.774 [Amended]

6. In 47 CFR 1.774(e) (2) (ii) remove the words “236 Massachusetts Ave., NE., Washington, DC 20002” and add in their place, the words “445 12th Street, SW., Washington, DC 20554”.

§ 1.939 [Amended]

7. In 47 CFR 1.939(b) remove the words “236 Massachusetts Ave., NE., Washington, DC 20002” and add in their place, the words “445 12th Street, SW., Washington, DC 20554”.

[FR Doc. E9-30515 Filed 12-24-09; 8:45 am]

BILLING CODE 6712-01-P